DEPARTMENT OF AGRICULTURE

Submission for OMB Review; Comment Request

March 17, 2022.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by April 21, 2022 will be considered. Written comments and recommendations for the proposed information collection should be submitted within 30 days of the publication of this notice on the following website www.reginfo.gov/public/do/PRAMain. Find this information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: WIC Nutrition Assessment and Tailoring Study In-Person Site Visit Data Collection.

Control Number: 0584-0663.

Summary of Collection: This is a revision to the currently approved information collection for the WIC Nutrition Assessment and Tailoring Study (WIC NATS). For this revision, the study has been renamed “WIC Nutrition Assessment and Tailoring Study In-Person Site Visit Data Collection.” It covers in-person site visits and accounts for the burden associated with collecting in-person data. This revision will collect data concerning the nutrition assessment process used by clinic sites in the Supplemental Nutrition Program for Women, Infants, and Children (WIC) to identify nutrition risks and apply that information to the tailoring of participant benefits. This revision will collect data via in-person site visits, where the data collection activities for the currently approved remote site visits will be replicated for use with 30 WIC clinic sites for in-person site visits once these sites can safely resume in-person operations. This data collection will provide the Food and Nutrition Service (FNS) with a comprehensive account of the WIC nutrition risk assessment and benefit tailoring processes provided during in-person clinic services. This study is an FNS priority resulting from policy changes from the publication in 2006 of the “Value Enhanced Nutrition Assessment (VENA) in WIC: The First Step in Quality Nutrition Services” and the publication in October 2009 of the interim final rule, “Revisions in the WIC Food Packages,” both of which affected the nutrition assessment or nutrition services process.

Section 28 of the Richard B. Russell National School Lunch Act as amended by the Healthy, Hunger-Free Kids Act of 2010 (Public Law 111-296, Section 305) provides the general statutory authority for this study.

Need and Use of the Information: This voluntary study will collect data from state and local government respondents in the WIC clinics; businesses and other for-profit and non-profit institutions that are WIC clinics, and WIC participants. FNS will use the information gathered from this study to inform program guidance and technical assistance related to the nutrition assessment process to support the implementation of best practices that meet the goals ensuring satisfaction with the program experience, promoting self-sufficiency, and improving the nutrition and health of women and children who participate in WIC. The study will identify specific practices or features of the nutrition services process associated with participant and staff satisfaction, reduced staff burden, and improved efficiency and will also provide FNS with a comprehensive, detailed description of the WIC nutrition risk assessment process, including how WIC staff apply the process to tailoring participant benefits during in-person clinic visits. FNS will compare data collected from in-person site visits to data collected from remote site visits to explore similarities and differences between remote and in-person nutrition services. This will allow FNS to better understand if there were differences in service quality or participant and staff satisfaction with WIC during remote appointments under the COVID-19 waiver flexibilities compared to traditional in-person clinic appointments. The data will be used to describe the nutrition assessment and benefit tailoring processes when conducted remotely and will be compared against the same processes used during in-person settings. It will also be used to investigate participant and staff perceptions of WIC nutrition services when provided remotely and will be compared against the perceptions observed during in-person WIC services.

Description of Respondents: State, Local, or Tribal Government; businesses or other for-profit, non-profit institutions, and individuals or households.

Number of Respondents: 1,050.

Frequency of Responses: Reporting: One-time only.

Total Burden Hours: 510.

Ruth Brown,
Departmental Information Collection Clearance Officer.

[FR Doc. 2022-06004 Filed 3-21-22; 8:45 am]

BILLING CODE 3410-30-P